DEPARTMENT OF COMMERCE

National Oceanic and Atmospheric Administration

50 CFR Part 648

[I.D. 022701H]

Fisheries of the Northeastern United States; Environmental Impact Statement (EIS) for Amendment 13 to the Surfclam and Ocean Quahog Fishery Management Plan

AGENCY: National Marine Fisheries Service (NMFS), National Oceanic and Atmospheric Administration (NOAA), Commerce.

ACTION: Notice of intent to prepare an EIS; scoping meeting; request for comments.

SUMMARY: The Mid-Atlantic Fishery Management Council (Council) intends to prepare an EIS, or supplementary EIS (SEIS) under the National Environmental Policy Act (NEPA) to assess the potential effects on the human environment of its proposed action to initiate Amendment 13 to the Fishery Management Plan for Surfclams and Ocean Quahogs (FMP) under the Magnuson-Stevens Fishery Conservation and Management Act (Magnuson-Stevens Act). The amendment currently would incorporate a new surfclam overfishing definition, multi-year quotas, a reversal of the requirement for regulatory action to suspend the surfclam size limit, development of a vessel monitoring system (VMS), and analyses of fishing gear impacts on essential fish habitat (EFH) for both species. The Council will hold a public scoping meeting and accept written comments to determine the need for an EIS or SEIS and the scope of issues to be addressed.

DATES: The Council will accept written comments through April 6, 2001. A public scoping meeting will be held Wednesday, March 21, 2001 from 1-3 p.m.

ADDRESSES: Send comments to Daniel T. Furlong, Executive Director, Mid-Atlantic Fishery Management Council, 300 S. New Street, Dover, DE 19904. Comments may also be sent via facsimile (fax) to 302-674-5399. The Council will not accept comments via e-mail or the Internet.

The scoping meeting will be held at the Golden Inn, Oceanfront at 78th Street, Avalon, NJ, telephone 609-368-5155.

FOR FURTHER INFORMATION CONTACT: Daniel T. Furlong, Executive Director of the Mid-Atlantic Fishery Management Council, 302-674-2331, ext. 19.

SUPPLEMENTARY INFORMATION: The Council announces a public process for determining the scope of issues to be addressed and for identifying the significant issues related to the development of Amendment 13 to the FMP. There are five issues currently to be addressed in this amendment: (1) A new surfclam overfishing definition, (2) multi-year quotas, (3) a reversal of the requirement for regulatory action to suspend the surfclam size limit, (4) development of a VMS, and (5) analyses of fishing gear impacts on EFH for both species. The analyses of fishing gear impacts on EFH are necessary to remedy previously disapproved sections of the FMP. In addition, the EIS/SEIS would evaluate changes to the fishery and its effects on the human environment, since the last EIS for this FMP was prepared in 1990. The FMP amendment will be prepared by the Mid-Atlantic Council in cooperation with NMFS.

Public Scoping Meeting

The public scoping meeting will be held on Wednesday, March 21, 2001, from 1-3 p.m., at the Golden Inn, Oceanfront at 78th Street, Avalon, NJ, telephone 609-368-5155. The meeting will be held in conjunction with a meeting of the Council at the same time and location.

Special Accommodations

This meeting is physically accessible to people with disabilities. Requests for sign language interpretation or other auxiliary aids should be directed to Joanna Davis at the Mid-Atlantic Council, telephone 302-674-2331, ext. 18, at least 5 days prior to the hearing date.

Authority: 16 U.S.C. 1801 et seq.

Dated: March 2, 2001.
Bruce C. Morehead,
Acting Director, Office of Sustainable Fisheries, national marine Fisheries Service.

[FR Doc. 01-5556 Filed 3-6-01; 8:45 am]

BILLING CODE 3510-22-S